DEPARTMENT OF THE INTERIOR

Bureau of Land Management

[LLCOS05000.L14400000.FR0000.20X; COC-78200]

Notice of Realty Action: Recreation and Public Purposes Act Classification and Conveyance, Montrose County, CO

AGENCY: Bureau of Land Management, Interior.

ACTION: Notice of realty action.

SUMMARY: The Bureau of Land Management (BLM) has examined certain public lands in Montrose County, Colorado, and has found them suitable for classification for lease and subsequent conveyance to Montrose County (County) under the provisions of the Recreation and Public Purposes Act (R&PP), as amended, and Executive Order No. 6910. The lands consist of approximately 44 acres, must conform to the official plat of survey, and are legally described below.

DATES: The BLM must receive written comments on or before July 6, 2020.

ADDRESSES: Written comments may be mailed or hand delivered to Jana Moe, Realty Specialist, Uncompahgre Field Office, 2465 South Townsend Avenue, Montrose, Colorado 81401. They may also be faxed to 970-240-5368 or emailed to jpmoe@blm.gov. The BLM will not consider comments received via telephone calls.

Detailed information including, but not limited to, a proposed development and management plan and documentation relating to compliance with applicable environmental and cultural resource laws, is available for review by appointment, 8:00 a.m. to 4:30 p.m. Mountain Time, Monday through Friday, except during Federal holidays, at the BLM Uncompahgre Field Office Visitor Center or online at https://eplanning.blm.gov/shavano.

FOR FURTHER INFORMATION CONTACT: Jana Moe, Realty Specialist, BLM Uncompahgre Field Office, at 970-240-5324 or by email at jpmoe@blm.gov. Persons who use a telecommunications device for the deaf may call the Federal Relay Service (FRS) at 1-800-877-8339 to leave a message or question for Ms. Moe. The FRS is available 24 hours a day, 7 days a week. You will receive a reply during normal business hours.

SUPPLEMENTARY INFORMATION: Montrose County has not applied for more than the 6,400-acre limitation for recreation uses in a year, nor more than 640 acres for each of the programs involving public resources other than recreation. Montrose County has submitted a statement in compliance with the regulations at 43 CFR 2741.4(b).

Montrose County proposes to use the land to develop the Shavano Gateway Recreation Area. The recreation area will provide parking spaces for vehicles and trailers, trailhead facilities such as restrooms and picnic tables, informational signage and an off-highway vehicle training area. This proposal aligns with Secretarial Order 3366's focus on increasing recreational opportunities on lands managed by the Department of the Interior.

The lands examined and identified as suitable for lease and subsequent conveyance under the R&PP Act are legally described as:

New Mexico Principal Meridian, Colorado

T. 48 N., R. 10 W.,

Sec. 8, SE1/4NE1/4 and NE1/4SE1/4, that portion lying southeasterly of the southeasterly right-of-way line of Montrose County 90 Road and easterly of the easterly edge of Shavano Loop trail.

The area described contains 44 acres.

The lands are not needed for any Federal purposes. Leasing or conveying these lands for recreational or public purposes is in public and national interest.

In conformance with the National Environmental Policy Act, the BLM prepared a parcel-specific Environmental Assessment (EA) document (DOI-BLM-CO-S050-2019-0019-EA) for this Notice of Realty Action. A copy of the EA is available online at https://eplanning.blm.gov/shavano. Based on the EA, the BLM approved a Finding of No Significant Impact and a Decision Record to implement the classification and conveyance of the lands described above on September 12, 2019.

The BLM completed the EA and issued the Decision Record under the 1989 BLM Uncompahgre Basin Resource Management Plan, as amended in September 1994. The EA, lease, and conveyance are in conformance with the recently approved April 2020 Uncompahgre Resource Management Plan.

All interested parties will receive a copy of this notice once it is published in the Federal Register. The Federal Register notice with information about this proposed realty action will be published in the newspaper of local circulation once a week for three consecutive weeks. The regulations at 43 CFR subpart 2741 addressing requirements and procedures for conveyances under the R&PP Act do not require a public meeting.

Upon publication of this notice in the Federal Register, the lands will be segregated from all other forms of appropriation under the public land laws, including the locations under the mining laws, except for lease or conveyance under the R&PP Act and leasing under the mineral leasing laws.

The lease or conveyance of the land, when issued, will be subject to the following terms, conditions, and reservations:

1. A right-of-way thereon for ditches and canals constructed by the authority of the Act of August 30, 1890, 26 Stat. 391 (43 U.S.C. 945), commonly referred to as the Canal Act.

2. Provisions of the R&PP Act and to all applicable regulations of the Secretary of the Interior.

3. All mineral deposits in the land so patented, the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. Any other reservations that the authorized officer determines appropriate to ensure public access and proper management of Federal lands and interests therein.

Classification Comments: Interested persons may submit comments involving the suitability of the land for development of the Shavano Gateway Recreation Area. Comments on the classification are restricted to whether the land is physically suited for the proposal, whether the use will maximize the future use or uses of the land, whether the use is consistent with local planning and zoning, or if the use is consistent with state and Federal programs.

Application Comments: Interested persons may submit comments regarding the specific use proposed in the application and plan of development and management, whether the BLM followed proper administrative procedures in reaching the decision, or any other factor not directly related to the suitability of the lands for the Shavano Gateway Recreation Area.

Any adverse comments will be reviewed by the BLM State Director or other authorized official of the Department of the Interior, who may sustain, vacate, or modify this realty action. In the absence of any adverse comments, the classification will become effective on July 20, 2020. The lands will not be offered for conveyance until after the classification becomes effective.

Before including your address, phone number, email address, or other personal identifying information in any comment, be aware that your entire comment including your personal identifying information may be made publicly available at any time. While you can ask us in your comment to withhold your personal identifying information from public review, we cannot guarantee that we will be able to do so.

(Authority: 43 CFR 2741.5)

Jamie E. Connell,
Colorado State Director.

[FR Doc. 2020-10804 Filed 5-19-20; 8:45 am]

BILLING CODE 4310-JB-P